DEPARTMENT OF HOMELAND SECURITY

Customs and Border Protection

Notice of Cancellation of Customs Broker Licenses

AGENCY: U.S. Customs and Border Protection, U.S. Department of Homeland Security.

ACTION: General notice.

SUMMARY: Pursuant to section 641 of the Tariff Act of 1930, as amended, (19 U.S.C. 1641) and the Customs Regulations (19 CFR 111.51), the following Customs broker licenses and all associated permits are cancelled without prejudice.

Name | License No. | Issuing port
Fermin Cuza | 10966 | Los Angeles.
Erwin Rautenberg | 03280 | Los Angeles.
Hans Leuenberger | 04082 | Los Angeles.
Gerhard F. Carl | 04143 | Philadelphia.

Dated: June 5, 2009.
Daniel Baldwin,
Assistant Commissioner, Office of International Trade.

[FR Doc. E9-13835 Filed 6-11-09; 8:45 am]

BILLING CODE 9111-14-P